MARINE MAMMAL COMMISSION

Sunshine Act Notice: Correction

TIME AND DATE: On 17 April 2014, the Marine Mammal Commission published a correction to its original 11 April 2014 notice of its annual meeting. This document contains a revision to those notices regarding the starting time of the meeting on Thursday, 8 May 2014. That session will begin at 9:00 a.m., rather than 9:30 a.m.

CONTACT PERSON FOR MORE INFORMATION: Michael L. Gosliner, General Counsel, Marine Mammal Commission, 4340 East-West Highway, Room 700, Bethesda, MD 20814; (301) 504-0087; email: mgosliner@mmc.gov.

Dated: April 21, 2014.
Rebecca J. Lent,
Executive Director.

[FR Doc. 2014-09510 Filed 4-23-14; 11:15 am]

BILLING CODE 6820-31-P